DEPARTMENT OF LABOR

Employment and Training Administration

[TA-W-41,695]

P.C.C. Airfoils, Inc., Minerva, OH; Notice of Negative Determination Regarding Application for Reconsideration

By application received on September 18, 2002, petitioners requested administrative reconsideration of the Department's negative determination regarding eligibility for workers and former workers of the subject firm to apply for Trade Adjustment Assistance (TAA). The denial notice applicable to workers of P.C.C. Airfoils, Inc., Minerva, Ohio, was signed on August 26, 2002, and published in the Federal Register on September 10, 2002 (67 FR 57455).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The TAA petition, filed on behalf of workers at P.C.C. Airfoils, Inc., Minerva, Ohio, engaged in activities related to blades and vanes for aerospace and land based turbo engines, was denied because the “contributed importantly” group eligibility requirement of section 222(3) of the Trade Act was not met. The contributed importantly test is generally demonstrated through a survey of customers of the workers' firm. Results of the survey revealed that customers did not increase their imports of competitive products during the relevant period. The subject firm did not import blades and vanes for aerospace and land based turbo engines during the relevant period. A domestic shift in production was cited as the cause of layoffs.

In requesting reconsideration, the petitioner(s) alleged that production equipment had been moved from the subject facility to an offshore facility. The petitioners further allege that company officials told them that their production work was shifting to this facility.

Upon contact with a company official, it was confirmed that the production equipment that was moved was shipped to the domestic facility cited in the original investigation. Further, it was confirmed that all production work that was shifted from the subject facility was transferred to this same domestic facility.

The petitioners also appear to claim that the company has purchased duplicate tooling for a foreign facility for the purpose of producing products like or directly competitive with those produced at the subject firm.

Upon further review, it was revealed that the foreign facility mentioned does not produce products like or directly competitive with those produced by the subject firm.

Finally, the petitioners state that employees had been told by company officials that the “finishing department will never return to Minerva”.

Although the petitioners' claim in this instance may be correct, it is irrelevant, as it has already been established that production of like or directly competitive products shifted to a domestic facility. No plant production shifted to a foreign facility.

Conclusion

After review of the application and investigative findings, I conclude that there has been no error or misinterpretation of the law or of the facts which would justify reconsideration of the Department of Labor's prior decision. Accordingly, the application is denied.

Signed in Washington, DC, this 10th day of February, 2003.
Edward A. Tomchick,
Director, Division of Trade Adjustment Assistance.

[FR Doc. 03-4282 Filed 2-21-03; 8:45 am]

BILLING CODE 4510-30-P